DEPARTMENT OF THE INTERIOR

Bureau of Land Management

[WY-040-1320-EL; WYW160394]

Notice of Availability of the Record of Decision for the Environmental Impact Statement for the Pit 14 Coal Lease-by-Application, Wyoming

AGENCY: Bureau of Land Management, Interior.

ACTION: Notice of availability of record of decision.

SUMMARY: In accordance with the National Environmental Policy Act of 1969, the Bureau of Land Management (BLM) announces the availability of the Record of Decision (ROD) for the Pit 14 Coal Lease-by-Application.

ADDRESSES: The document is available electronically on the following Web site: http://www.wy.blm.gov/nepa/rsfodocs/pit14/index.htm. Paper copies of the ROD are also available at the following BLM office locations:

• Bureau of Land Management, Wyoming State Office, 5353 Yellowstone Road, Cheyenne, Wyoming.

• Bureau of Land Management, Rock Springs Field Office, 280 Highway 191 North, Rock Springs, Wyoming.

FOR FURTHER INFORMATION CONTACT: Mr. Bob Janssen, Wyoming Coal Coordinator, (307) 775-6206 or Ms. Mavis Love, Land Law Examiner (307) 775-6258. Both Mr. Janssen's and Ms. Love's offices are located at the BLM Wyoming State Office, 5353 Yellowstone Road, Cheyenne, Wyoming 82009.

SUPPLEMENTARY INFORMATION: The ROD covered by this NOA is for the Pit 14 coal tract (WYW160394) and addresses leasing coal administered by the BLM Rock Springs Field Office contained within 1,399.48 acres of Federal surface and mineral estate in Sweetwater County, Wyoming. The BLM estimates that approximately 34.6 million tons of in-place coal reserves are present in the Upper Cretaceous Almond Formation within the project area. The BLM approves the proposed action as described in the Final EIS. A competitive lease sale will be announced in the Federal Register at a later date.

This decision is subject to appeal to the Interior Board of Land Appeals (IBLA) as provided in 43 CFR 4 within thirty (30) days from the date of publication of this NOA in the Federal Register. The ROD contains instructions for filing an appeal with the IBLA.

Dated: December 4, 2006.
Donald Simpson,
Associate State Director.

[FR Doc. E7-2591 Filed 2-14-07; 8:45 am]

BILLING CODE 4310-22-P